DEPARTMENT OF COMMERCE

National Telecommunications and Information Administration

Multistakeholder Process To Develop Best Practices for Privacy, Transparency, and Accountability Regarding Commercial and Private Use of Unmanned Aircraft Systems

AGENCY: National Telecommunications and Information Administration, U.S. Department of Commerce.

ACTION: Notice of open meeting.

SUMMARY: The National Telecommunications and Information Administration (NTIA) will convene a meeting of a multistakeholder process concerning privacy, transparency, and accountability issues regarding commercial and private use of unmanned aircraft systems on May 18, 2016.

DATES: The meeting will be held on May 18, 2016 from 2:00 p.m. to 5:00 p.m., Eastern Time. See SUPPLEMENTARY INFORMATION for details.

ADDRESSES: The meeting will be held in the Boardroom at the American Institute of Architects, 1735 New York Avenue NW., Washington, DC 20006.

FOR FURTHER INFORMATION CONTACT: Travis Hall, National Telecommunications and Information Administration, U.S. Department of Commerce, 1401 Constitution Avenue NW., Room 4725, Washington, DC 20230; telephone (202) 482-3522; email thall@ntia.doc.gov. Please direct media inquiries to NTIA's Office of Public Affairs, (202) 482-7002; email press@ntia.doc.gov.

SUPPLEMENTARY INFORMATION:

Background: Congress recognized the potential wide-ranging benefits of Unmanned Aircraft Systems (UAS) operations within the United States in the Federal Aviation Administration (FAA) Modernization and Reform Act of 2012 (Pub. L. 112-95), which requires a plan to safely integrate civil UAS into the National Airspace System (NAS) by 2015. On February 15, 2015, President Obama issued the Presidential Memorandum “Promoting Economic Competitiveness While Safeguarding Privacy, Civil Rights, and Civil Liberties in Domestic Use of Unmanned Aircraft Systems.” ¹ The Presidential Memorandum establishes a “multi-stakeholder engagement process to develop and communicate best practices for privacy, accountability, and transparency issues regarding commercial and private UAS use in the NAS.” ² The process includes stakeholders from industry, civil society, and academia, and will be initiated by the Department of Commerce, through NTIA, and in consultation with other interested agencies. On August 3, 2015, NTIA convened the first meeting of the multistakeholder process, followed by additional meetings through February 2016.

¹ Presidential Memorandum, Promoting Economic Competitiveness While Safeguarding Privacy, Civil Rights, and Civil Liberties in Domestic Use of Unmanned Aircraft Systems, (Feb. 15, 2015), available at: http://www.whitehouse.gov/the-press-office/2015/02/15/presidential-memorandum-promoting-economic-competitiveness-while-safegua.

² Presidential Memorandum at 4.

Matters to Be Considered: The May 18, 2016 meeting is a continuation of a series of NTIA-convened multistakeholder discussions concerning privacy, transparency, and accountability issues regarding commercial and private use of UAS. Additional meetings may be scheduled as needed. Stakeholders will engage in an open, transparent, consensus-driven process to develop best practices for privacy, accountability, and transparency issues regarding commercial and private UAS use in the NAS. The May 18, 2016 meeting will build on stakeholders' previous work. More information about stakeholders' work is available at: https://www.ntia.doc.gov/other-publication/2015/multistakeholder-process-unmanned-aircraft-systems.

Time and Date: NTIA will convene a meeting of the multistakeholder process regarding unmanned aircraft systems on May 18, 2016 from 2:00 p.m. to 5:00 p.m., Eastern Time. The meeting date and time are subject to change. The meeting is subject to cancellation if stakeholders complete their work developing best practices. Please refer to NTIA's Web site, https://www.ntia.doc.gov/other-publication/2015/multistakeholder-process-unmanned-aircraft-systems, for the most current information.

Place: The meeting will be held in the Boardroom at the American Institute of Architects, 1735 New York Avenue NW., Washington, DC 20006. The location of the meeting is subject to change. Please refer to NTIA's Web site, https://www.ntia.doc.gov/other-publication/2015/multistakeholder-process-unmanned-aircraft-systems, for the most current information.

Other Information: The meeting is open to the public and the press. The meeting is physically accessible to people with disabilities. Requests for sign language interpretation or other auxiliary aids should be directed to Travis Hall at (202) 482-3522 or thall@ntia.doc.gov at least seven (7) business days prior to the meeting. The meeting will also be live webcast. Requests for real-time captioning of the webcast should be directed to Travis Hall at (202) 482-3522 or thall@ntia.doc.gov at least seven (7) business days prior to the meeting. There will be an opportunity for stakeholders viewing the webcast to participate remotely in the meeting through a moderated conference bridge, including polling functionality. Access details for the meeting are subject to change. Please refer to NTIA's Web site, https://www.ntia.doc.gov/other-publication/2015/multistakeholder-process-unmanned-aircraft-systems, for the most current information.

Dated: April 28, 2016.
Kathy D. Smith,
Chief Counsel, National Telecommunications and Information Administration.

[FR Doc. 2016-10359 Filed 5-2-16; 8:45 am]

BILLING CODE 3510-60-P